INTERNATIONAL TRADE COMMISSION

[USITC SE-09-029]

Government in the Sunshine Act Meeting Notice

Agency Holding the Meeting: United States International Trade Commission.

Time and Date: November 6, 2009 at 11 a.m.

Place: Room 101, 500 E Street, SW., Washington, DC 20436, Telephone: (202) 205-2000.

Status: Open to the public.

Matters to be Considered: 1. Agenda for future meetings: none.

2. Minutes.

3. Ratification List.

4. Inv. Nos. 701-TA-470-471 and 731-TA-1169-1170 (Preliminary) (Certain Coated Paper Suitable for High-Quality Print Graphics Using Sheet-Fed Presses from China and Indonesia)—briefing and vote. (The Commission is currently scheduled to transmit its determinations to the Secretary of Commerce on or before November 9, 2009; Commissioners' opinions are currently scheduled to be transmitted to the Secretary of Commerce on or before November 17, 2009.)

5. Inv. Nos. 701-TA-472 and 731-TA-1171-1172 (Preliminary) (Certain Standard Steel Fasteners from China and Taiwan)—briefing and vote. (The Commission is currently scheduled to transmit its determinations to the Secretary of Commerce on or before November 9, 2009; Commissioners' opinions are currently scheduled to be transmitted to the Secretary of Commerce on or before November 17, 2009.)

6. Inv. Nos. 701-TA-473 and 731-TA-1173 (Preliminary) (Certain Sodium and Potassium Phosphate Salts from China)—briefing and vote. (The Commission is currently scheduled to transmit its determinations to the Secretary of Commerce on or before November 9, 2009; Commissioners' opinions are currently scheduled to be transmitted to the Secretary of Commerce on or before November 17, 2009.)

7. Outstanding action jackets: none.

In accordance with Commission policy, subject matter listed above, not disposed of at the scheduled meeting, may be carried over to the agenda of the following meeting.

By order of the Commission.
Issued: October 26, 2009.
William R. Bishop,
Hearings and Meetings Coordinator.

[FR Doc. E9-26104 Filed 10-26-09; 4:15 pm]

BILLING CODE 7020-02-P